NATIONAL AERONAUTICS AND SPACE ADMINISTRATION

[Notice: 25-036]

Name of Information Collection: Proposal Submissions and Awards Management System for the NASA Small Business Innovation Research/Small Business Technology Transfer (SBIR/STTR) Program Solicitations; Correction

AGENCY: National Aeronautics and Space Administration (NASA).

ACTION: Notice of a new information collection, correction.

SUMMARY: NASA published a document in the Federal Register on September 10, 2025, concerning a proposed and/or continuing information collections, as required by the Paperwork Reduction Act of 1995 (PRA).

FOR FURTHER INFORMATION CONTACT: NASA PRA Clearance Officer, Stayce Hoult, 256-714-8575 or stayce.d.hoult@nasa.gov.

SUPPLEMENTARY INFORMATION: In the Federal Register of September 10, 2025, in FR Doc. 2025-17398, on page 43644, in the first column, add the NASA Docket number in the ADDRESSES section to read: “NASA-2025-0103”.

Nanette Smith,
Team Lead, NASA Directives and Regulations.

[FR Doc. 2025-17949 Filed 9-16-25; 8:45 am]

BILLING CODE 7510-13-P